DEPARTMENT OF THE INTERIOR

U.S. Geological Survey

[GX170A030AD0100]

Agency Information Collection Activities: Request for Comments

AGENCY: U.S. Geological Survey (USGS), Interior.

ACTION: Notice of a new information collection, Ecosystems Program Stakeholder Satisfaction Survey.

SUMMARY: We (the U.S. Geological Survey) will ask the Office of Management and Budget (OMB) to approve the information collection (IC) described below. As required by the Paperwork Reduction Act (PRA) of 1995, and as part of our continuing efforts to reduce paperwork and respondent burden, we invite the general public and other Federal agencies to take this opportunity to comment on this IC.

DATES: To ensure that your comments are considered, we must receive them on or before March 13, 2017.

ADDRESSES: You may submit comments on this information collection to the Information Collection Clearance Officer, U.S. Geological Survey, 12201 Sunrise Valley Drive, MS 807, Reston, VA 20192 (mail); (703) 648-7197 (fax); or gs-info_collections@usgs.gov (email). Please reference `Information Collection 1028—NEW, Ecosystems Program Stakeholder Satisfaction Survey' in all correspondence.

FOR FURTHER INFORMATION CONTACT: Linn Kwan, Senior Program Officer, Tel. 703.648.4494 or Email-lkwan@usgs.gov.

SUPPLEMENTARY INFORMATION:

I. Abstract

The survey will be sent to USGS Ecosystems Mission Area stakeholders/partners to provide respondents the opportunity to share their comments, insights and satisfaction of USGS Ecosystems research products, training, and technical assistance. The survey results will be compiled and reported in three new performance measures that are being proposed for FY2018-2022. The survey is voluntary and anonymous. The respondents' identities will only be known if they chose to share that information in the response.

II. Data

OMB Control Number: 1028—NEW.

Title: Ecosystems Program Stakeholder Satisfaction Survey.

Type of Request: New information collection.

Affected Public: USGS partners at other DOI bureaus, Federal and State agencies, Tribes and Non-governmental Organizations.

Respondent's Obligation: None, participation is voluntary.

Frequency of Collection: Information will be collected once at the end of each fiscal year.

Estimated Annual Number of Respondents: 150

Estimated Total Number of Annual Responses: 120

Estimated Time per Response: 10 minutes or less to complete the survey.

Estimated Reporting and Recordkeeping “Non-Hour Cost” Burden: None.

Public Disclosure Statement: The PRA (44 U.S.C. 3501, et seq.) provides that an agency may not conduct or sponsor and you are not required to respond to a collection of information unless it displays a currently valid OMB control number and current expiration date.

III. Request for Comments

We are soliciting comments as to: (a) Whether the proposed collection of information is necessary for the agency to perform its duties, including whether the information is useful; (b) the accuracy of the agency's estimate of the burden of the proposed collection of information; (c) ways to enhance the quality, usefulness, and clarity of the information to be collected; and (d) how to minimize the burden on the respondents, including the use of automated collection techniques or other forms of information technology.

Please note that the comments submitted in response to this notice are a matter of public record. Before including your personal mailing address, phone number, email address, or other personally identifiable information in your comment, you should be aware that your entire comment, including your personally identifiable information, may be made publicly available at any time. While you can ask us in your comment to withhold your personally identifiable information from public view, we cannot guarantee that we will be able to do so.

John Thompson,
Deputy Chief, CRU.

[FR Doc. 2017-00444 Filed 1-10-17; 8:45 am]

BILLING CODE 4338-11-P